DEPARTMENT OF THE INTERIOR

Fish and Wildlife Service

Willamette Valley National Wildlife Refuge Complex, Corvallis, OR

AGENCY: Fish and Wildlife Service, Interior.

ACTION: Notice of intent to prepare a comprehensive conservation plan and environmental assessment; and request for comments.

SUMMARY: We, the U.S. Fish and Wildlife Service (Service) intend to prepare a Comprehensive Conservation Plan (CCP) for the William L. Finley, Baskett Slough, and Ankeny National Wildlife Refuges (Refuges). We will also prepare an environmental assessment (EA) evaluating effects of various CCP alternatives. The Refuges are located in the Willamette Valley, within Benton, Linn, Marion, and Polk Counties, Oregon. We are furnishing this notice to advise other government agencies, Tribes, and the public of our intentions, and to obtain public comments, suggestions, and information on the scope of issues to be considered during the planning process.

DATES: We request your written comments on the scope of the CCP by March 31, 2008. All comments received during scoping will be considered during development of the Draft CCP and EA.

ADDRESSES: Address comments, questions, and requests for information to: Doug Spencer, Project Leader, Willamette Valley National Wildlife Refuge Complex, 26208 Finley Refuge Rd., Corvallis, OR 97333. Comments may be faxed to (541) 757-4450, or e-mailed to FW1PlanningComments@fws.gov. Include Willamette Valley Refuges CCP in the subject line of your message. Additional information about the CCP planning process is available on the Internet at: http://www.fws.gov/willamettevalley/ccp.

FOR FURTHER INFORMATION CONTACT: Doug Spencer, Project Leader, Willamette Valley National Wildlife Refuge Complex, phone (541) 757-7236.

SUPPLEMENTARY INFORMATION: The National Wildlife Refuge System Administration Act of 1966, as amended by the National Wildlife Refuge System Improvement Act of 1997 (16 U.S.C. 668dd-668ee), requires all lands within the National Wildlife Refuge System to be managed in accordance with an approved CCP. A CCP guides refuge management decisions, and identifies long-range goals, objectives, and strategies for achieving the purposes for which the refuge was established. During the CCP planning process many elements will be considered, including wildlife and habitat protection and management, public use opportunities, and cultural resource protection. Public input during the planning process is essential. The CCP for the William L. Finley, Baskett Slough, and Ankeny Refuges will describe desired Refuge conditions and the long-term goals, objectives, and strategies for achieving those conditions. To evaluate potential impacts of CCP alternatives, we will prepare an environmental assessment in accordance with the National Environmental Policy Act (NEPA) of 1969, as amended (42 U.S.C. 4371 et seq.)

Background

The Refuges were established in the 1960s under the Migratory Bird Conservation Act “for use as an inviolate sanctuary, or for any other management purpose, for migratory birds * * * to conserve and protect migratory birds * * * and to restore or develop adequate wildlife habitat” with emphasis on protecting dusky Canada geese. The Refuges' habitats include wetlands, wet prairies, upland oak woodland, oak savanna/upland prairie, mixed-deciduous woodlands, riparian, and riverine. Agricultural lands, the majority managed as grass fields, are also present on the Refuges. The Refuges support a significant portion of the wintering dusky Canada goose population in addition to other subspecies of Canada geese, and contain some of the last tracts of native habitats in the Willamette Valley, particularly wet prairie and oak savanna/upland prairie. The Refuges support key populations of federally listed species, including Oregon chub, Fender's blue butterfly, Bradshaw's desert-parsley, Kincaid's lupine, Nelson's checker-mallow, and Willamette daisy. Many other rare, but not yet listed species are also found on the Refuges. Additional information on the Refuges is available at: http://www.fws.gov/willamettevalley.

Preliminary Issues, Concerns, and Opportunities

We identified the following categories of preliminary issues for consideration in the planning process: The Refuges' role in wintering Canada geese habitat; restoration and maintenance of native habitats; maintenance and recovery of listed and rare species; managing Roosevelt elk on William L. Finley Refuge; water and wetland management; providing sustainable wildlife-dependent recreation; maintaining historical structures; managing invasive species; and managing on-going Refuge programs and commitments in an era of tight budgets. Additional issues may be identified during public scoping.

Public Availability of Comments

All comments we receive become part of the public record. Requests for comments will be handled in accordance with the Freedom of Information Act, NEPA, and Service and Department of the Interior policies and procedures. Before including your address, phone number, e-mail address, or other personal identifying information in your comment, you should be aware that your entire comment—including your personal identifying information—may be made publicly available at any time. While you can ask us to withhold it from public review, we cannot guarantee we will be able to do so.

Dated: December 5, 2007.
David J. Wesley,
Acting Regional Director, Region 1, Portland, Oregon.

[FR Doc. E8-3898 Filed 2-28-08; 8:45 am]

BILLING CODE 4310-55-P